SUSQUEHANNA RIVER BASIN COMMISSION

Extension of Comment Period—Proposed Low Flow Protection Policy

AGENCY: Susquehanna River Basin Commission.

ACTION: Notice.

SUMMARY: At its regular meeting in Binghamton, New York on June 7, 2012, the Susquehanna River Basin Commission (SRBC) extended the comment deadline for its proposed Low Flow Protection Policy to July 16, 2012. The original comment deadline had been May 16, 2012. On March 15, 2012, SRBC's commissioners approved the release of the proposed Low Flow Protection Policy for public review and comment. The proposed policy was developed over the past year—based on scientific advances in ecosystem flow protection—to improve low flow protection standards associated with approved water withdrawals. SRBC will use the final policy and supporting technical guidance when reviewing withdrawal applications to establish limits and conditions on approvals consistent with SRBC's regulatory standards (18 CFR § 806.23).

DATES: The new deadline for the submission of comments is July 16, 2012.

ADDRESSES: Comments may be mailed to: Mr. John Balay, Susquehanna River Basin Commission, 1721 N. Front Street, Harrisburg, PA 17102-2391, or electronically submitted through http://www.srbc.net/pubinfo/businessmeeting.htm.

FOR FURTHER INFORMATION CONTACT: John W. Balay, Manager, Planning and Operations, telephone: (717) 238-0423, ext. 217; fax: (717) 238-2436. Also, the proposed policy and background information on the policy are available at the Commission's Web site www.srbc.net.

Authority: Pub. L. 91-575, 84 Stat. 1509 et seq., 18 CFR Parts 806-808.

Dated: June 7, 2012.
Thomas W. Beauduy,
Deputy Executive Director.

[FR Doc. 2012-14389 Filed 6-12-12; 8:45 am]

BILLING CODE 7040-01-P